DEPARTMENT OF EDUCATION

[Docket No.: ED-2023-SCC-0192]

Department of Education Information Collection Activities; Submission to the Office of Management and Budget for Review and Approval; Comment Request; Entry Evidence and Evaluation & Exit Evidence Forms; Correction

AGENCY: Office for Finance and Operations (OFO), Department of Education (ED).

ACTION: Notice; correction.

On January 22, 2024, the U.S. Department of Education published a 30-day comment period notice in the Federal Register with FR Doc. 2024-01107 (89 FR 3916, column 1, column 2) seeking public comment for an information collection entitled, “Entry Evidence and Evaluation and Exit Evidence Forms”. The Department will revise related information collection forms. A new 30-day public comment notice will be published.

The PRA Coordinator, Strategic Collections and Clearance, Office of the Chief Data Officer, Office of Planning, Evaluation and Policy Development, hereby issues a correction notice as required by the Paperwork Reduction Act of 1995.

Dated: January 22, 2024.
Stephanie Valentine,
PRA Coordinator, Strategic Collections and Clearance, Office of the Chief Data Officer, Office of Planning, Evaluation and Policy Development.

[FR Doc. 2024-01444 Filed 1-24-24; 8:45 am]

BILLING CODE 4000-01-P